DEPARTMENT OF COMMERCE

International Trade Administration

[A-580-601]

Top-of-the-Stove Stainless Steel Cooking Ware from the Republic of Korea: Notice of Rescission of Antidumping Duty Administrative Review

AGENCY: Import Administration, International Trade Administration, Department of Commerce.

ACTION: Notice of Rescission of Antidumping Duty Administrative Review.

EFFECTIVE DATE: April 7, 2003.

FOR FURTHER INFORMATION CONTACT: Sam Zengotitabengoa or Ron Trentham, Group II, Office 4, Office of AD/CVD Enforcement, Import Administration, International Trade Administration, U.S. Department of Commerce, 14th Street and Constitution Avenue, NW., Washington, DC 20230; telephone (202) 482-4195 or 482-6320, respectively.

SUPPLEMENTARY INFORMATION:

Background

On January 2, 2003, the Department of Commerce (the Department) published a notice of opportunity to request an administrative review of the antidumping duty order on top-of-the-stove stainless steel cooking ware (Cookware) from the Republic of Korea (Korea) (68 FR 9048).

On February 27, 2003, pursuant to a request made by Dong Won Metal Co., Ltd. (Dong Won), a producer and exporter of Cookware, the Department initiated an administrative review of the antidumping duty order on Cookware from Korea. On March 23, 2003, Dong Won withdrew its request for an administrative review of Cookware from Korea.

Rescission of Review

Section 351.213(d)(1) of the Department's regulations provides that a party that requests an administrative review may withdraw the request within 90 days after the date of publication of the notice of initiation of the requested administrative review. The Department is rescinding the administrative review of the order on Cookware from Korea for the period January 1, 2002 through December 31, 2002, because the requesting party has withdrawn its request for this administrative review within the 90-day time limit, and no other interested parties have requested a review of Cookware from Korea for this time period.

This notice is in accordance with section 777(i)(1) of the Act and 19 CFR 251.213(d)(4).

Dated: April 1, 2003.
Holly A. Kuga,
Acting Deputy Assistant Secretary for Import Administration.

[FR Doc. 03-8415 Filed 4-4-03; 8:45 am]

BILLING CODE 3510-DS-S